FEDERAL RETIREMENT THRIFT INVESTMENT BOARD

Sunshine Act; Notice of Meeting; Federal Retirement Thrift Investment Board Member Meeting, September 19, 2016 8:30 a.m. (In-Person), 77 K Street NE., Board Room 10th Floor, Washington, DC 20002

Agenda

Open Session

1. Approval of the Minutes of the August 22, 2016 Board Member Meeting

2. Monthly Reports

(a) Participant Activity Report

(b) Investment Performance Report

(c) Legislative Report

3. FY17 Budget Review and Approval

4. Vendor Financials

5. Blended Retirement

Closed Session

Information covered under 5 U.S.C. 552b(c)(4) and (c)(9)(B).

Adjourn

CONTACT PERSON FOR MORE INFORMATION: Kimberly Weaver, Director, Office of External Affairs, (202) 942-1640.

Dated: September 8, 2016.
Megan Grumbine,
General Counsel.

[FR Doc. 2016-21990 Filed 9-12-16; 4:15 pm]

BILLING CODE 6760-01-P